DEPARTMENT OF HEALTH AND HUMAN SERVICES

Administration for Children and Families

[Program Announcement No. ACYF-PA-CCB 2001-01]

Native Hawaiian and Nonprofit American Indian Organization; Child Care Grants

AGENCY: Administration on Children and Families (ACYF), Administration for Children and Families, (ACF).

ACTION: Announcement of availability of competitive financial assistance for Native Hawaiian and Nonprofit American Indian Organization Child Care Grants.

SUMMARY: The purpose of this program announcement is to announce the availability of fiscal year 2001 Discretionary Funds, authorized under the Child Care and Development Block Grant (CCDBG) Act (the Act), as amended, for child care grants to:

(1) A Native Hawaiian organization; and

(2) A private nonprofit organization established for the purpose of serving youth who are Indians or Native Hawaiians.

DATES: The closing date for submission of applications is January 8, 2001.

Mailing and Delivery Instructions: Mailed applications and applications hand delivered by applicants, applicant couriers, overnight/express mail couriers or any other method of hand delivery shall be considered as meeting an announced deadline if they are received on or before the deadline, at the: ACYF Operations Center, 1815 North Fort Myer Drive, Suite 300, Arlington, VA 22209, Telephone: 1-800-351-2293.

Applications may be hand delivered to the above address between the hours of 8:00 a.m. and 4:30 p.m. (EDT), Monday through Friday (excluding Federal Holidays).

Applicants are responsible for mailing and delivering applications well in advance of deadlines to ensure that the applications are received on time. Applications received after 4:30 p.m. (EDT) on the deadline date will be classified as late. Postmarks and other similar documents do not establish receipt of an application.

ACF will not accept applications delivered by fax, regardless of date or time of submission and receipt.

Late applications: Applications which do not meet the criteria stated above and are not received by the deadline date and time are considered late applications. The Administration for Children and Families (ACF) will notify each late applicant that its application will not be considered in the current competition.

Extension of deadline: ACF may extend an application deadline for applicants affected by acts of God such as floods and hurricanes, or when there is widespread disruption of the mails. A determination to waive or extend deadline requirements rests with the Chief Grants Management Officer.

Notice of Intent to Submit Application: If you intend to submit an application, please contact ACYF's Operations Center at 1-800-351-2293 with the following information: the number and title of this announcement; your organization's name and address; and your contact person's name, phone number, fax number, and e-mail address. The information will be used to determine the number of expert reviewers needed to evaluate applications and to update the mailing list for program announcements.

FOR FURTHER INFORMATION CONTACT: Ginny Gorman, Administration for Children and Families, Child Care Bureau, Room 2046, Mary E. Switzer Building, 330 C Street, SW., Washington, DC 20447, Phone: 202-401-7260, Fax: 202-690-5600, or E-mail: ggorman@acf.dhhs.gov

SUPPLEMENTARY INFORMATION: The ACF Uniform Discretionary Grant Application Form covering all ACF announcements, contained in the Application Kit, and this Supplementary Information section contain all the forms and instructions needed to apply for a grant under this announcement. No additional application materials are needed.

The Supplementary Information section consists of seven parts. Part I provides general information about funding requirements, and application procedures for child care grants under this program announcement. Part II provides background information on ACYF, the Child Care Bureau, and funding to Indian Tribes and tribal organizations under the Child Care and Development Fund (CCDF), and CCDF definitions used in this announcement. Part III describes child care goals and priorities related to this announcement. Part IV provides instructions for the Uniform Project Description. Part V describes the evaluation criteria and selection process. Part VI describes the application process. Part VII provides information on the content of the application and submission instructions. The contents are outlined below:

Table of Contents

Part I. General Information

A. Purpose

B. Citations

C. Number of Awards

D. Project Duration

E. Funding Levels and Budget Periods

F. Non-Federal Share of Project Costs

G. Eligibility

Part II. Background and Context

A. The Child Care Bureau

B. Grants to Indian Tribes and Tribal Consortia

C. Grants to “Other Organizations”

D. Definitions

Part III. Native Hawaiian and Nonprofit American Indian Organization Child Care Grants—Goals and Priorities

A. Regulatory and Statutory Requirements

B. Eligibility for Services

C. Coordination

D. Public Notice

E. Parental Choice

F. Quality Activities

G. Construction or Renovation of Child Care Facilities

Part IV. General Instructions for the Uniform Project Description

A. Introduction

B. Project Summary/Abstract

C. Objectives and Need for Assistance

D. Results or Benefits Expected

E. Approach

F. Geographic Location

G. Additional Information

Part V. Evaluation Criteria and Selection Process

A. Evaluation Criteria

B. The Selection Process

C. Funding Date

Part VI. Application Process

A. Assistance to Prospective Grantees

B. Application Requirements

C. Paperwork Reduction Act of 1995

D. Notification Under Executive Order 12372

E. Availability of Forms and Other Materials

F. Application Consideration

Part VII. Application Content and Submission Instructions

A. Application Content

B. Application Submission

Part I. General Information

A. Purpose

The purpose of this program announcement is to provide funding for two child care programs: one serving Native Hawaiian youths; and one serving Indian and/or Native Hawaiian youths.

B. Citations

1. Sponsorship

Grants being awarded under this announcement are sponsored by the Child Care Bureau (the Bureau) of the Administration on Children, Youth and Families (ACYF) in the Administration for Children and Families (ACF), U.S. Department of Health and Human Services (DHHS). The Bureau will manage the projects.

2. Funding Authority

Funding is being provided by ACF under Sec. 658B of the Child Care and Development Block Grant Act, as amended (42 U.S.C. 9858).

3. Catalog of Federal Domestic Assistance

The Catalog of Federal Domestic Assistance Number is 93.575.

C. Number of Awards

Two projects will be funded in fiscal year 2001 (beginning October 1, 2000), subject to the availability of funds and results of the evaluation process.

D. Project Duration

The total project period will be 36 months.

E. Funding Levels and Budget Periods

Initial awards will be for a one-year budget period. Individual projects will receive between $500,000 and $1,000,000 for the first budget period of 12 months, with a possibility of between $500,000 and $1,000,000 per year in continuation funding to be awarded in each of fiscal years 2002 and 2003. The estimated total Federal funding for a three-year project is between $1,500,000 and $3,000,000.

Applications for continuation of grants funded under this announcement will be entertained in subsequent years on a non-competitive basis. The award of continuation funding beyond each one-year budget period (but within the three-year project period) will be subject to the availability of funds, satisfactory progress of the grantee, and a determination that continued funding would be in the best interest of the government.

F. Non-Federal Share of Project Costs

While the applicant is not required to provide a match to receive funding under this program announcement, it is strongly encouraged to leverage funds from other sources for their project.

G. Eligibility

The following organizations are eligible to apply for funding under this program announcement:

A private nonprofit organization that serves the interests of Native Hawaiians and is recognized by the Governor of Hawaii for the purpose of planning, conducting, or administering programs (or parts of programs) for the benefit of Native Hawaiians; and

A private nonprofit organization established for the purpose of serving youth who are Indians or Native Hawaiians.

Any non-profit organization submitting an application must submit proof of its non-profit status in its application at the time of submission. The non-profit agency can accomplish this by providing a copy of the applicant's listing in the Internal Revenue Service's (IRS) most recent list of tax-exempt organizations described in Section 501(c)(3) of the IRS code or by providing a copy of the currently valid IRS tax exemption certificate, or by providing a copy of the articles of incorporation bearing the seal of the State in which the corporation or association is domiciled.

At least 90 percent of the individuals serving on a non-profit applicant's board must fall into one or more of the following categories: (1) Must be a current or past member of the community to be served; (2) be a prospective participant in or beneficiary of the project to be funded; or (3) have a cultural relationship with the community to be served.

“Community” is defined as a group with common interests and a common identify, such as an Indian Tribe, Alaska Native Village, or a group of Native Hawaiians living in a given geographic area, and all those residing or participating in a predominantly Native Hawaiian community.

If an Indian organization is already receiving Child Care and Development Fund (CCDF) funding, it is not eligible to apply for Discretionary Funds under this program announcement. Only one application will be accepted from each eligible applicant.

Part II. Background and Context

A. The Child Care Bureau

The Child Care Bureau was established in 1994 to provide leadership to efforts to enhance the quality, affordability, and supply of child care available for all families. The Child Care Bureau administers the Child Care and Development Fund (CCDF), a $3.5 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care.

The Bureau works closely with ACF Regions, States, Territories and Tribes to assist with, oversee, and document implementation of new policies and programs in support of State, local and private sector administration of child care services and systems. In addition, the Bureau collaborates extensively with other offices throughout the Federal government to promote integrated, family-focused services and coordinated child care delivery systems. In all of these activities, the Bureau seeks to enhance the quality, availability, and affordability of child care services, support children's healthy growth and development in safe child care environments, enhance parental choice and involvement in their children's care, and facilitate the linkage of child care with other community services.

B. Grants to Indian Tribes and Tribal Consortia

The CCDF is comprised of two funding sources for Tribes and tribal consortia:

Discretionary Funds—funding that is provided under the Child Care and Development Block Grant Act, as amended; and

Tribal Mandatory Funds—funding that is provided to eligible tribal organizations under Section 418 of the Social Security Act.

Currently, 257 Indian Tribes and tribal consortia receive CCDF funds. Through consortia arrangements, these grantees serve over 500 Federally recognized Indian Tribes and Alaska Native Villages. In FY 2000, Tribes and tribal organizations received approximately $71 million in CCDF funds.

A Tribe is eligible to receive CCDF funds if it is Federally recognized and the tribal population includes at least 50 children under 13 years of age (or such similar age, as determined by the Secretary from the best available data). A Tribe with fewer than 50 children under age 13 may participate in a consortium of eligible tribes.

In order to receive CCDF funds, eligible Tribes and tribal consortia develop a plan for child care services. The plan is an agreement between the Administration for Children and Families (ACF) and the Tribal agency responsible for administering the CCDF funds. The plan provides assurances that the funds will be administered in conformance with the Act, pertinent Federal regulations, and other applicable instructions or guidelines issued by ACF.

C. Grants to “Other Organizations”

The Personal Responsibility and Work Opportunity Reconciliation Act of 1996 (PRWORA) amended the Child Care and Development Block Grant Act (CCDBG), to add the following definition to the term “tribal organization,” to indicate other organizations that are potentially eligible for Discretionary Funding:

“Other organizations—Such term includes a Native Hawaiian Organization, as defined in section 4009(4) of the Augustus F. Hawkins-Robert T. Stafford Elementary and Secondary School Improvement Amendments of 1988 and a private nonprofit organization established for the purpose of serving youth who are Indians or Native Hawaiians.”

Section 4009(4) of the Augustus F. Hawkins-Robert T. Stafford Elementary and Secondary School Improvement Amendments of 1988 defines a Native Hawaiian Organization as:

“A private nonprofit organization that serves the interests of Native Hawaiians, and is recognized by the Governor of Hawaii for the purpose of planning, conducting, or administering programs (or parts of programs) for the benefit of Native Hawaiians.”

The applicant is eligible to apply only for Discretionary Funds under this announcement. Native Hawaiian organizations and private nonprofit organizations established for the purpose of serving youth who are Indians or Native Hawaiians are not eligible to apply for Tribal Mandatory Funds.

D. Definitions

This program announcement is based on the following definitions:

Categories of Care—center-based child care, group home child care, family child care and in home care.

Center-Based Child Care Provider—a provider licensed or otherwise authorized to provide child care services for fewer than 24 hours per day per child in a non-residential setting, unless care in excess of 24 hours is due to the nature of the parent(s)' work.

Child Care Certificate—a certificate (that may be a check, or other disbursement) that is issued by a grantee directly to a parent who may use such certificate only as payment for child care services or as a deposit for child care services if such a deposit is required of other children being cared for by the provider, pursuant to 45 CFR 98.30. Nothing in this part shall preclude the use of such certificate for sectarian child care services if freely chosen by the parent. For the purposes of this part, a child care certificate is assistance to the parent, not assistance to the provider.

Construction—the erection of a facility that does not currently exist.

Discretionary Funds—the funds authorized under section 658B of the Child Care and Development Block Grant Act. The Discretionary funds were formerly referred to as the Child Care and Development Block Grant.

Eligible Child Care Provider—(1) A center-based child care provider, a group home child care provider, a family child care provider, an in-home child care provider, or other provider of child care services for compensation that is licensed, regulated, or registered under applicable State or local law as described in 45 CFR 98.40; and satisfies State and local requirements, including those referred to in 45 CFR 98.41 applicable to the child care services it provides; or (2) a child care provider who is 18 years of age or older who provides child care services only to eligible children who are, by marriage, blood relationship, or court decree, the grandchild, great grandchild, sibling (if such provider lives in separate residence), niece, or nephew of such provider, and complies with any applicable requirements that govern child care provided by the relative involved.

Family Child Care Provider—one individual who provides child care services for fewer than 24 hours per day per child, as the sole caregiver, in a private residence other than the child's residence, unless care in excess of 24 hours is due to the nature of the parent(s)' work.

Group Home Child Care Provider—two or more individuals who provide child care services for fewer than 24 hours per day per child, in a private residence other than the child's residence, unless care in excess of 24 hours is due to the nature of the parent(s)' work.

Indian Tribe—any Indian Tribe, band, nation, or other organized group or community, including any Alaska Native village or regional or village corporation as defined in or established pursuant to the Alaska Native Claims Settlement Act (43 U.S.C. section 1601 et seq.) that is recognized as eligible for the special programs and services provided by the United States to Indians because of their status as Indians.

In-Home Child Care Provider—an individual who provides child care services in the child's own home.

Licensing or Regulatory Requirements—requirements necessary for a provider to legally provide child care services in a State or locality, including registration requirements established under State, local or Tribal law.

Other Tribal Organizations—such term includes a Native Hawaiian Organization, as defined in section 4009(4) of the Augustus F. Hawkins-Robert T. Stafford Elementary and Secondary School Improvement Amendments of 1988 and a private nonprofit organization established for the purpose of serving youth who are Indians or Native Hawaiians.

Parent—a parent by blood, marriage or adoption and also means a legal guardian, or other person standing in loco parentis.

Provider—the entity providing child care services.

Sliding Fee Scale—a system of cost sharing by a family based on income and size of the family, in accordance with 45 CFR 98.42.

Tribal Mandatory Funds—the child care funds set aside at section 418(a)(4) of the Social Security Act. The funds consist of between one and two percent of the aggregate Mandatory and Matching child care funds reserved by the Secretary in each fiscal year for payments to Indian Tribes and Tribal organizations.

Types of Providers—the different classes of providers under each category of care. For the purposes of the CCDF, types of providers include non-profit providers, for-profit providers, sectarian providers and relatives who provide care.

Part III. Native Hawaiian and Nonprofit American Indian Organization Child Care Grants—Goals and Priorities

In designing a project under this announcement, the applicant should consider the following goals of the amended CCDBG Act, provided at 45 CFR 98.1(a):

1. Allow each State maximum flexibility in developing child care programs and policies that best suit the needs of children and parents within the State;

2. Promote parental choice to empower working parents to make their own decisions on the child care needs that best suits their family's needs;

3. Encourage States to provide consumer education information to help parents make informed choices about child care;

4. Assist States to provide child care to parents trying to achieve independence from public assistance; and

5. Assist States in implementing the health, safety, licensing and registration standards established in State regulations.

Grants awarded under this announcement are to increase the availability, affordability and quality of child care services by establishing child care programs in areas that have been previously underserved and/or have unmet needs.

Eligible applicants are reminded that under 45 CFR 98.80(d) of the CCDF Final Rule, Indian children continue to have dual eligibility to receive services funded by CCDF. Indian children and Native Hawaiian children will continue to be eligible for services provided under this announcement and from the State in which the applicant organization is located. Therefore, through the two grants awarded under this announcement, additional child care services (from the Discretionary Fund) are available to children who are currently eligible to be served under a State CCDF program.

A. Regulatory and Statutory Requirements

To meet the purposes of the Act, the applicant is required to meet most of the same requirements as grantees receiving tribal formula grants under the CCDF program. Thus, the majority of the information requested under Part IV, General Instructions for the Uniform Project Description, of this program announcement is required by the current regulations at 45 CFR parts 98 and 99 and the CCDBG Act, as amended. Unless otherwise indicated, the regulations at 45 CFR part 98 will apply to grants awarded under this program announcement. As discussed in Part II., B. Grants to Indian Tribes and Tribal Consortia, this information is requested in the CCDF plan for Tribes and tribal consortia. Since the CCDF plan is not appropriate for grants under this announcement, it is incumbent upon the applicant to demonstrate how their project meets these regulatory and statutory requirements. The applicant must also include a statement that it will comply with the applicable list of assurances found in 45 CFR 98.15 of the CCDF final rule.

B. Eligibility for Services

All eligible children must be under the age of 13 and reside with a family whose income does not exceed 85% of the grantee median income for a family of the same size and whose parent(s) are working or attending a job training or educational program or who receive or need to receive protective services. Grantee median income may be defined as: (1) Tribal median income for a family of the same size residing in the area served by the applicant; or (2) State median income for a family of the same size.

The applicant must indicate which income eligibility definition it plans to use in establishing a child care program under this announcement. In addition, an applicant must define the following terms, as used in their application: (1) Attending (a job training or educational program); (2) in loco parentis; (3) job training and educational program; (4) physical or mental incapacity; (5) protective services; (6) residing with; and (7) special needs child. Instructions on defining these terms are included in the Application Kit's “Supplemental Guide.” The applicant may elect to establish additional eligibility criteria. For example, the applicant may establish different income limits for part of the population to be served. Any additional eligibility criteria need to be clearly identified and defined by the applicant. The applicant may also elect to waive, on a case-by-case basis, the fee and income eligibility requirements for cases in which children receive or need to receive protective services.

The applicant may provide child care for children age 13 and older who are physically and/or mentally incapable of self-care, but must define these terms in their application. The applicant may also provide child care for children age 13 and older who are under court supervision. If care is to be provided in either circumstance, the applicant must specify the age of the children to be served, up to age 19.

In designing a child care program, the applicant is encouraged to address the before- and after-school care needs of eligible children to be served under this program announcement.

C. Coordination

The applicant must describe how it will coordinate the delivery of CCDF-funded child care services with other Federal, State, and local child care, early childhood development programs, and before- and after-school care services, if applicable.

Child care is an integral part of a community's self-sufficiency and workforce development efforts. In addition, the quality of child care benefits greatly from close coordination with the public health and education communities. Therefore, the applicant must include the results of its coordination activities with agencies responsible for health (including the agency responsible for immunizations), education, employment services or workforce development, and the agency responsible for providing Temporary Assistance for Needy Families (TANF).

D. Public Notice

The applicant is encouraged to engage in a planning process that includes parents, providers, and other relevant stakeholders in the community to be served. As part of the planning process, the applicant must notify those families eligible to be served under this program announcement of the provision of child care services proposed under this project and provide an opportunity for members to comment on the proposed plan through a public hearing. Public notice of the hearing must be made available across the proposed service area at least 20 days prior to the hearing.

E. Parental Choice

One of the goals of the Child Care and Development Block Grant Act is “to promote parental choice to empower working parents to make their own decisions on the child care that best suits their family's needs.” In support of this goal, the applicant is expected to design and implement a certificate program since it promotes parental choice in selecting CCDF-funded child care providers. However, while certificates ensure parental choice, contracted slots also play an important role in meeting the child care needs of families, particularly in rural areas, for infant-care, or for children with special needs.

Therefore, it is incumbent for the applicant to design a child care program that will adequately address the needs and unique circumstances of the population it intends to serve. If the applicant is unable to operate a certificate program, or chooses to provide child care services through grants and contracts exclusively, it must justify this approach in its program narrative and assure how the alternative approach will promote parental choice.

F. Quality Activities

The applicant must spend no less than four percent of its grant award on activities to improve the availability and quality of child care. Examples of activities undertaken by CCDF-funded tribal child care programs include: (1) Resource and referral programs; (2) grants or loans to providers to assist in meeting standards; (3) monitoring of compliance with licensing and regulatory requirements; (4) training and technical assistance; (5) compensation for child care providers; and (6) comprehensive consumer education. The applicant may select activities from this list of examples, or design other quality activities that are better suited to the population to be served.

G. Construction or Renovation of Child Care Facilities

Title VI of the Personal Responsibility and Work Opportunity Reconciliation Act of 1996 (Pub. L. 104-193) amended the Child Care and Development Block Grant Act to permit Tribal grantees to use CCDF funds for construction or renovation of child care facilities. Therefore, in its grant application the applicant should describe any anticipated construction and renovation projects that will be funded with CCDF funds, and estimate the amount of funds that will be used for these projects.

However, grant funds cannot be spent for construction or renovation until a grantee has applied for and received approval, through a separate application process, from the Department of Health and Human Services (DHHS). A grantee may submit a request to spend part of its grant for construction or renovation through this separate application process once it has been awarded a CCDF grant under this announcement.

As part of the separate application process, a grantee must show that adequate facilities are not otherwise available to carry out child care programs, and that the lack of facilities will inhibit the operation of such programs in the future. The amount of funds that a grantee may request for construction or renovation through the separate application process is limited to the amount estimated in the grantee's original CCDF application under this announcement.

Furthermore, statutory language at section 6580(c)(6) of the revised CCDBG Act indicates that Congress does not intend for construction and renovation projects to unnecessarily divert resources from the provision of child care services. Because grants under this announcement are designed to establish child care programs in areas with unmet need, a grantee should reserve adequate funds for direct child care services. While some construction and renovation activity is allowable under this program announcement, in accordance with Part V., A. Criterion 5. Budget, the applicant will have to demonstrate that funds will be used for direct child care services and the funds requested are reasonable in regard to the number of eligible children to be served.

Part IV. General Instructions for the Uniform Project Description

The following ACF Uniform Project Description has been approved under OMB Control Number 0970-0139. This format is to be used to submit an application under this announcement.

A. Introduction

The applicant is required to submit a full project description shall prepare the project description statement in accordance with the following instructions. The pages of the project description must be numbered and are limited to 40 typed pages, double spaced, printed on only one side, with at least ½-inch margins. Pages over the limit will be removed from the application and will not be reviewed. In addition, please note that previous attempts by applicants to circumvent space limitations or to exceed page limits by using small print have resulted in negative responses from reviewers because of the difficulty in reviewing the application.

The applicant should use the evaluation criteria listed in Part V as a way to organize the uniform project description, providing specific information that addresses all components of each criterion.

It is in the applicant's best interest to ensure that the project description is easy to read, logically developed in accordance with evaluation criteria and adhere to page limitations. In addition, the applicant should be mindful of the importance of preparing and submitting applications using language, terms, concepts and descriptions that are generally known to the child care and early childhood fields.

B. Project Summary/Abstract

Provide a summary of the project description (a page or less) with reference to the funding request.

C. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated); some of which may be outside the scope of the program announcement.

D. Results or Benefits Expected

Identify the results and benefits to be derived. For example, describe who will receive child care services, where and how these services will be provided, the anticipated numbers of children and families to be served, and how the services will benefit the children, families and community to be served.

E. Approach

Outline a plan of action, which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of youth to be served and the results of those services. When accomplishments cannot be quantified by activity or function, list them in chronological order to show the schedule of accomplishments and their target dates.

Identify the kinds of data to be collected, maintained, and/or disseminated. Note that clearance from the U.S. Office of Management and Budget might be needed prior to a “collection of information” that is “conducted or sponsored” by ACF. List organizations, cooperating entities, consultants, or other key individuals who will work on the project along with a short description of the nature of their effort or contribution.

F. Geographic Location

Describe the precise location of the project and boundaries of the area to be served by the proposed project. Maps or other graphic aids may be attached.

G. Additional Information

1. Staff and position data: Provide a biographical sketch for each key person appointed and a job description for each vacant key position. A biographical sketch will also be required for new key staff as appointed.

2. Plan for project continuance beyond grant support: Provide a plan for securing resources and continuing project activities after Federal assistance has ceased.

3. Organizational profiles: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

4. Third-party agreements: Include written agreements between grantees and subgrantees or subcontractors or other cooperating entities. These agreements must detail scope of work to be performed, work schedules, remuneration, and other terms and conditions that structure or define the relationship.

5. Letters of support: Provide statements from community, public and commercial leaders that support the project proposed for funding.

6. Budget and budget justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

Part V. Evaluation Criteria and Selection Process

The five evaluation criteria that follow will be used to review and evaluate each application. Each of the criteria should be addressed in the project description section of the application. The point values indicate the maximum numerical weight each criterion will be accorded in the review process. Note that the highest possible score an application can receive is 100 points.

A. Evaluation Criteria

Criterion 1. Objectives and Need for Assistance (20 Points)

1. The applicant must specify the goals and objectives of the project and how implementation will fulfill the purposes of the amended Child Care and Development Block Grant Act. The applicant must demonstrate a thorough understanding of the Child Care and Development Fund, and the Federal regulations that apply to CCDF grants administered by the Child Care Bureau.

2. The applicant must state the need for assistance by identifying and discussing the critical child care issues affecting Native Hawaiian and or low-income Indian families and the challenges they face as they move toward economic self-sufficiency. Participant and beneficiary information must also be included.

3. The applicant must describe how it will coordinate the delivery of CCDF-funded child care services with other Federal, State and local child care, early childhood development programs, and before- and after-school care services. Supporting documentation of need from other community groups may be included.

4. The applicant must describe the area to be served, indicate the precise locations of program services and demonstrate that the services will be located in an area which is accessible to children and families. Maps or other graphic aids may be attached.

Criterion 2. Results and Benefits Expected (10 Points)

1. The applicant must specify the number of children and families to be served, the array of child care settings available, and the types of other services to be provided (such as quality activities).

2. The applicant must explain how the expected results will benefit the population to be served in meeting its child care needs.

3. The applicant must describe the criteria to be used to evaluate the results and success of the program.

Criterion 3. Approach (40 Points)

1. The applicant must include a detailed plan that identifies goals and objectives and provides a work plan identifying specific activities necessary to accomplish the stated goals and objectives.

2. The applicant must describe how the project will coordinate the delivery of CCDF funded child care services with other Federal, State and local child care, early childhood development programs, and before- and after-school care services. Coordination activities with agencies responsible for health, education, employment services or workforce development and Temporary Assistance for Needy Families must also be addressed.

3. The applicant must describe how it will develop and implement a certificate program that allows parents to choose from a variety of child care categories, including center-based care, group home care, family child care and in-home care (including a description of the certificate payment system). The applicant must also discuss the use of grants or contracts for child care slots, if applicable, and any reasons for limiting the use of in-home care.

4. The applicant must demonstrate that payment rates are adequate to ensure equal access to comparable child care services provided to children whose parents are not eligible to receive child care assistance under the CCDF and other governmental programs based on the results of a required market rate survey. The applicant may base its market rate survey on the State's survey rather than conducting its own survey if the applicant's service area is included in the State's market rate survey. A copy of the required market rate survey must be included.

5. The applicant must explain its eligibility criteria and requirements, including how the applicant will give priority for child care services to children with special needs, and include a copy of the sliding fee scale that will be used to determine each family's contribution to the cost of care (including whether families below the poverty level would be exempted from the fee). An explanation of the use of the sliding fee scale must also be provided.

6. The applicant must describe how it will develop and implement processes with parents including: informing parents about child care services and options, making applications, and eligibility determinations; making available information on parental complaints; and affording parents unlimited access to their children receiving CCDF-funded child care services.

7. The applicant must describe the activities it will develop and implement to improve the availability and quality of child care.

8. The applicant will discuss how it will meet the required health and safety standards by type of provider, particularly in regard to the newly issued guidance on the Minimum Tribal Child Care Standards.

9. The applicant must describe how it will collect data on children and families receiving CCDF-funded child care services.

10. The applicant must describe how the activities implemented under this project will be continued by the agency once Federal funding for the project has ended and must describe specific plans for accomplishing program phase-out in the event the applicant cannot obtain new operating funds at the end of the 36-month project period.

Criterion 4. Staff and Position Data and Organizational Profiles (20 Points)

1. The applicant must discuss staff and organizational experience in working with children and families, particularly in early childhood education and/or child care. The applicant must also document the services it provides to this specific population and the length of time the applicant has been involved in the provision of these services.

2. The applicant must include information on the skills, knowledge and experience of the project director and key project staff. Brief resumes of current and proposed staff, as well as job descriptions, should be included. Resumes must indicate what position the individual will fill and position descriptions must specifically describe the job as it relates to the proposed project. The applicant must also list organizations and consultants who will work on the program along with a short description of the nature of their effort or contribution. The applicant must provide information on plans for training project staff as well as staff of cooperating organizations and individuals.

3. The applicant must demonstrate the ability of the organization to effectively manage the program.

4. The applicant must provide a short description of the applicant agency's organization; the types, quantities and costs of services it provides and must identify and discuss the role of other organizations or multiple sites of the agency that will be involved in direct services to children and families through this grant. List all these sites, including addresses, phone numbers and staff contact names if different than those on the SF 424. If the agency is a recipient of funds from the Administration on Children, Youth and Families for services to children and families for programs other than that applied for in this application (e.g., Head Start, Child Welfare Services), show how the services supported by these funds are or will be integrated with the existing services. Organizational charts may be provided.

5. The applicant must provide an annotated listing of its funding sources and contractual agreements and other relationships which support or complement the provision of child care services to low-income Native Hawaiian and/or Indian children and families.

Criterion 5. Budget (10 Points)

1. The applicant must show the extent to which the funds requested will be used for direct child care services to families through certificates and/or contracted programs for child care slots and are reasonable and justified in regard to the number of eligible children that will receive CCDF-funded child care services under this announcement. Discussion should refer to (1) the budget information presented on Standard Forms 424 and 424A and the applicant's budget justification and (2) the results or benefits identified under Criterion 2 above.

2. The applicant must describe the fiscal control and accounting procedures used to ensure prudent use, proper disbursement and accurate accounting of funds.

B. The Selection Process

The Commissioner, ACYF, will make the final selection of the applicants to be funded. Applications may be funded in whole or in part depending on: (1) the ranked order of applicants resulting from the competitive review; (2) staff review and consultations; (3) the combination of projects that best meets the Bureau's objectives; (4) the funds available; and (5) other relevant considerations.

Selected applicants will be notified through the issuance of a Financial Assistance Award that sets forth the amount of funds granted, the terms and conditions of the grant award, the effective date of the award, the budget period for which support is given, and the total project period for which support is provided.

C. Funding Date

It is anticipated that successful applications will be funded in the second quarter of FY 2001.

Part VI. Application Process

A. Assistance to Prospective Grantees

Potential grantees can direct questions about application forms to the Administration on Children, Youth and Families, Child Care Bureau Program Announcement, 1815 North Fort Myer Drive, Suite 300, Arlington, VA. 22209; Telephone: 1-800-351-2293; electronic mail: CCB@lcgnet.com. Questions about program requirements may be directed to Ginny Gorman, Child Care Bureau; Telephone 202-401-7260; electronic mail: ggorman@acf.dhhs.gov or John Coakley, ACF Region IX, San Francisco; Telephone 415-437-8554; Electronic Mail jcoakley@acf.dhhs.gov.

B. Application Requirements

To be considered for a grant, each application must be submitted on the forms provided in the Application Kit and in accordance with the guidance provided below. The application must be signed by an individual authorized to act for the applicant agency and to assume responsibility for the obligations imposed by terms and conditions of the grant award. If more than one agency is involved in submitting a single application, one entity must be identified as the applicant organization that will have legal responsibility for the grant.

C. Paperwork Reduction Act of 1995 (Public Law 104-13)

The Uniform Project Description information collection within this Program Announcement is approved under Uniform Project Description (0970-0139).

Public reporting burden for this collection of information is estimated to average 10 hours per response, including the time for reviewing instructions, gathering and maintaining the data needed, and reviewing the collection of information. An agency may not conduct or sponsor and a person is not required to respond to, a collection of information unless it displays a currently valid OMB control number.

D. Notification Under Executive Order 12372

This program announcement is not covered under Executive Order 12372, Intergovernmental Review of Federal Programs,” and 45 CFR Part 100, “Intergovernmental Review of Department of Health and Human Services Program and Activities.”

E. Availability of Forms and Other Materials

A copy of the forms that must be submitted as part of an application and instructions for completing the application are provided in the Application Kit. Legislation referenced in Part I, section B.2 of this announcement and the CCDF Final Rule (45 CFR parts 98 and 99) may be found in major public libraries and on the Child Care Bureau's website at http://www.acf.dhhs.gov/programs/ccb/policy1/index.htm. Additional copies of this announcement may be obtained by calling 1-800-351-2293. Many standard forms can also be downloaded and printed from the following ACF webpage: http://www.acf.dhhs.gov/programs/oa/form.htm.

An Application Kit containing the necessary forms and a “Supplemental Guide to Develop a Funding Application for Native Hawaiian and Nonprofit American Indian Organization Child Care Grants” may be obtained from: Department of Health and Human Services, Administration for Children and Families, Child Care Bureau, Room 2046, Mary E. Switzer Building, 330 C Street, SW., Washington, DC 20447, Attention: ACYF-PA-CCB-2001-01, Telephone: (202) 401-7260.

F. Application Consideration

All applications that are complete and conform to the requirements of this program announcement will be subject to a competitive review and evaluation against the specific competitive grant area criteria outlined in Part V of this announcement. This review will be conducted in Washington, D.C., by panels of non-Federal experts knowledgeable in the areas of tribal child care, early childhood education and other relevant areas.

Application review panels will assign a score to each application, identifying its strengths and weaknesses. Both Central and Regional Hub office staff will conduct administrative reviews of the applications and the results of the competitive review panels and will recommend applications for funding to the Commissioner, ACYF. The Commissioner will make the final selection of the applications to be funded. The Commissioner may also elect not to fund any applicants having known management, fiscal, reporting, program, or other problems which make it unlikely that they would be able to provide effective services.

Successful applicants will be notified through the issuance of a Financial Assistance Award which will set forth the amount of funds granted, the terms and conditions of the grant, the effective date of the grant, and the budget period for which initial support will be given.

Organizations whose applications will not be funded will be notified in writing by the Commissioner of the Administration on Children, Youth and Families. Every effort will be made to notify all unsuccessful applicants as soon as possible after final decisions are made.

Part VII. Application Content and Submission Instructions

A. Application Content

Each application must contain the following items in the order listed:

1. Application for Federal Assistance (Standard Form 424, REV 4-92). Follow the instructions in the Application Kit. In Item 8 of Form 424, check “New.” In Item 10 of the 424, clearly identify the Catalog of Federal Domestic Assistance (CFDA) program title and number: Child Care and Development Block Grant, 93.575.

2. Budget and Budget Justification (Standard Form 424A, REV 4-92). Follow the instructions in the Application Kit. The budget justification should be typed on standard size plain white paper, provide breakdowns for major budget categories and justify significant costs. List amounts and sources of all funds, both Federal and non-Federal, to be used for this project.

3. Project Summary/Abstract (one page maximum). Clearly mark this page with the applicant name as shown on item 5 of the SF 424, identify the title of the proposed project as shown in item 11 and the service area as shown in item 12 of the SF 424. The summary description should not exceed 300 words.

Care should be taken to produce a summary which accurately and concisely reflects the proposed project. It should describe the objectives of the project, the approach to be used and the results and benefits expected.

4. Assurances/Certifications. The applicant must sign and return a SF 424B, Assurances—non-Construction Programs form and the Certification Regarding Lobbying form and return them with the application. A duly authorized representative of the applicant organization must certify that the applicant is in compliance with these assurances and certifications. Note: Although construction is an allowable cost if approved by ACF (see Part III, G), the non-construction assurances are required for purposes of this application. All requirements related to construction will be addressed through the separate application process for construction and renovation.

In addition, the applicant must certify its compliance with: (1) Drug-Free Workplace Requirements; (2) Debarment and Other Responsibilities; and (3) Pro-Children Act of 1994 (Certification Regarding Environmental Tobacco Smoke). A signature on the SF 424 indicates compliance with the Drug Free Workplace Requirements, Debarment and Other Responsibilities and Environmental Tobacco Smoke Certifications. A signature on the application constitutes an assurance that the applicant will comply with the pertinent Departmental regulations contained in 45 CFR Part 74.

5. Documents of Support. The maximum number of pages for supporting documentation is 10 pages, double-spaced, exclusive of letters of support or agreement. These documents must be numbered and might include resumes, photocopies of news clippings, evidence of the program's efforts to coordinate child care services at the local level, etc. Documentation over the ten-page limit will not be reviewed. The applicant may, however, include as many letters of support or agreement as are appropriate.

B. Application Submission

To be considered for funding, the applicant must submit one signed original and two additional copies of the application, including all attachments, to the application receipt point specified above. The original copy of the application must have original signatures, signed in black ink. Each copy must be stapled (back and front) in the upper left corner. All copies of an application must be submitted in a single package.

Because each application will be duplicated, do not use or include separate covers, binders, clips, tabs, plastic inserts, maps, brochures or any other items that cannot be processed easily on a photocopy machine with an automatic feed. Do not bind, clip, staple, or fasten in any way separate subsections of the application, including supporting documentation. Applicants are advised that the copies of the application submitted, not the original, will be reproduced by the Federal government for review.

(Catalog of Federal Domestic Assistance: Child Care and Development Block Grant, 93.575)
Dated: November 3, 2000.
James A. Harrell,
Deputy Commissioner, Administration on Children, Youth and Families.

[FR Doc. 00-28798 Filed 11-08-00; 8:45 am]

BILLING CODE 4184-01-P